DEPARTMENT OF DEFENSE

[Docket ID: DoD-2021-OS-0021]

Submission for OMB Review; Comment Request

AGENCY: Office of the Under Secretary of Defense for Personnel and Readiness, Department of Defense (DoD).

ACTION: Information collection notice.

SUMMARY: Consistent with the Paperwork Reduction Act of 1995 and its implementing regulations, this document provides notice DoD is submitting an Information Collection Request to the Office of Management and Budget (OMB) to collect information on active duty spouses to determine the effectiveness of the Department's family support programs. DoD requests emergency processing and OMB authorization to collect the information after publication of this Notice for a period of six months.

DATES: Comments must be received by April 16, 2021.

ADDRESSES: The Department has requested emergency processing from OMB for this information collection request by 15 days after publication of this notice. Interested parties can access the supporting materials and collection instrument as well as submit comments and recommendations to OMB at www.reginfo.gov/public/do/PRAMain. Find this particular information collection by selecting “Currently under 15-day Review—Open for Public Comments” or by using the search function.

Comments submitted in response to this notice will be summarized and included in the request for OMB approval of this information collection. They will also become a matter of public record.

FOR FURTHER INFORMATION CONTACT: Angela James, 571-372-7574, or whs.mc-alex.esd.mbx.dd-dod-information-collections@mail.mil.

SUPPLEMENTARY INFORMATION: The results of the Active Duty Spouse Survey (ADSS) provide leadership with an understanding of the effectiveness of the Department's family support programs. Given deployment and family life cycles, it allows policy offices to monitor changes in attitudes/opinions, evaluate effectiveness of recent initiatives, and provide insight into topics such as financial well-being, overall health, life in the military, spouse unemployment, and use of military-provided resources. Due to the COVID-19 public health emergency, DoD has delayed implementation in order to review and modify questions as needed to ensure an adequate response rate. This exemption will allow this survey to be fielded in May 2021 so results will be available by the end of 2021.

Title; Associated Form; and OMB Number: Active Duty Spouse Survey.

Type of Request: New.

Number of Respondents: 11,500.

Responses per Respondent: 1.

Annual Responses: 11,500.

Average Burden per Response: 30 minutes.

Annual Burden Hours: 5750.

Affected Public: Individuals or households.

Frequency: Biannually.

Respondent's Obligation: Voluntary.

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: March 29, 2021.
Aaron T. Siegel,
Alternate OSD Federal Register Liaison Officer, Department of Defense.

[FR Doc. 2021-06716 Filed 3-31-21; 8:45 am]

BILLING CODE 5001-06-P